DEPARTMENT OF LABOR

Employment and Training Administration

[SGA/DFA-PY 05-06]

Solicitation for Grant Applications (SGA); Older Americans Act—Senior Community Service Employment Program National Grants for Program Year 2006

AGENCY: Employment and Training Administration (ETA), Labor.

ACTION: Notice; amendment.

SUMMARY: The Employment and Training Administration published a document in the Federal Register of March 2, 2006, concerning the availability of funds and solicitation for grant applications for the national grants portion of the Senior Community Service Employment Program. The document is hereby amended.

FOR FURTHER INFORMATION CONTACT: James W. Stockton, Grant Officer, Division of Federal Assistance, Telephone (202) 693-3335.

Amendment in the Federal Register of March 2, 2006, in FR Doc. 06-1959, on page 10820, in the first column, amended to read: Prospective applicants are advised that Appendix K has been updated to accurately reflect the correct locations of National Grantee positions.

Signed at Washington, DC, this 23rd day of March, 2006.
James W. Stockton,
Grant Officer.

[FR Doc. E6-4584 Filed 3-28-06; 8:45 am]

BILLING CODE 4510-30-P